EXECUTIVE OFFICE OF THE PRESIDENT

Request for Information To Improve Federal Scientific Integrity Policies

AGENCY: White House Office of Science and Technology Policy.

ACTION: Notice of request for information.

SUMMARY: The White House Office of Science and Technology Policy (OSTP) seeks information to help improve the effectiveness of Federal scientific integrity policies to enhance public trust in science. The January 27, 2021 Presidential Memorandum on Restoring Trust in Government Through Scientific Integrity and Evidence-Based Policymaking (Memorandum) directs OSTP to convene an interagency task force under the National Science and Technology Council to review the effectiveness of policies developed since the issuance of the Presidential Memorandum on scientific integrity issued on March 9, 2009 in preventing improper political interference in the conduct of scientific research and the collection of data; preventing the suppression or distortion of findings, data, information, conclusions, or technical results; supporting scientists and researchers of all genders, races, ethnicities, and backgrounds; and advancing the equitable delivery of the Federal Government's programs. To support this assessment, OSTP seeks information about: (1) The effectiveness of Federal scientific integrity policies and needed areas of improvement; (2) good practices Federal agencies could adopt to improve scientific integrity, including in the communication of scientific information, addressing emerging technologies and evolving scientific practices, supporting professional development of Federal scientists, and promoting transparency in the implementation of agency scientific integrity policies; and (3) other topics or concerns that Federal scientific integrity policies should address. Please note the purpose of this RFI is not to receive reports on alleged offenses that are in violation of Federal scientific integrity policies. If you have witnessed or experienced any harmful acts that may undermine scientific integrity and you would like to report these allegations, please contact the Scientific Integrity Officer or Office of the Inspector General at the relevant Federal agency.

DATES: Interested persons and organizations are invited to submit comments on or before 5:00 p.m. ET on July 28, 2021.

ADDRESSES: Interested individuals and organizations should submit comments electronically to ScientificIntegrityRFI@ostp.eop.gov and include “SI-FTAC RFI” in the subject line of the email. Due to time constraints, mailed paper submissions will not be accepted, and electronic submissions received after the deadline cannot be ensured to be incorporated or taken into consideration.

Instructions

Response to this RFI is voluntary. Each responding entity (individual or organization) is requested to submit only one response. OSTP welcomes any responses to inform and guide the work of the Scientific Integrity Fast-Track Action Committee (SI-FTAC). Please feel free to respond to one or as many prompts as you choose. Submission must not exceed 7 pages in 12-point or larger font, with a page number provided on each page. Responses should include the name of the person(s) or organization(s) filing the comment, as well as the respondent type (e.g., academic, advocacy, professional society, community-based organization, industry, member of the public, government, other). Respondent's role in the organization may also be provided (e.g., researcher, administrator, student, program manager, journalist) on a voluntary basis. Comments containing references, studies, research, and other empirical data that are not widely published should include copies or electronic links of the referenced materials. No business proprietary information, copyrighted information, or personally identifiable information should be submitted in response to this RFI. Please be aware that comments submitted in response to this RFI may be posted on OSTP's website or otherwise released publicly.

In accordance with FAR 15.202(3), responses to this notice are not offers and cannot be accepted by the Federal Government to form a binding contract. Additionally, those submitting responses are solely responsible for all expenses associated with response preparation.

FOR FURTHER INFORMATION CONTACT: For additional information, please direct questions to Ryan Donohue at ScientificIntegrity@ostp.eop.gov.

SUPPLEMENTARY INFORMATION:

Background: On January 27, 2021, President Biden issued a Presidential Memorandum on Restoring Trust in Government Through Scientific Integrity and Evidence-Based Policymaking (2021 Memorandum). The Memorandum asserts the Administration's goal to develop sound policy to make evidence-based decisions guided by the best available science and data, recognizing that scientific and technological information, data, and evidence are central to the development and iterative improvement of sound policies and to the delivery of equitable programs across every area of government. It emphasizes that political interference in the work of Federal scientists and other scientists who support the work of the Federal government and in the communication of scientific facts undermines the welfare of the Nation, contributes to systemic inequities and injustices, and violates the trust that the public places in government to best serve its collective interests. The 2021 Memorandum reaffirms and builds on the Presidential Memorandum of March 9, 2009 (Scientific Integrity) and the Director of the Office of Science and Technology Policy's Memorandum of December 17, 2010 (Scientific Integrity), which together specify elements that scientific integrity policies of Federal Departments and Agencies are to address.

The 2009 Presidential Memorandum articulates 6 principles to guide recommendations for Presidential Action to guarantee scientific integrity throughout the executive branch: (1) Selection and retention of candidates for science and technology positions in the executive branch should be based on the candidate's knowledge, credentials, experience, and integrity; (2) Agencies should have appropriate rules and procedures to ensure the integrity of the scientific process within the agency; (3) Scientific and technical information used in agency decisions should be subject to established scientific processes, including peer review; (4) Agencies should make available to the public the scientific or technological findings or conclusions considered or relied upon in policy decisions (to the extent release is not restricted); (5) Agencies should have in place procedures to identify and address instances in which the scientific process or the integrity of scientific and technological information may be compromised; and (6) Agencies should adopt procedures, including whistleblower protections, needed to ensure the integrity of scientific and technological information and processes used for decision-making or otherwise prepared.

The 2010 OSTP Memorandum provides further guidance to executive departments and agencies for implementing scientific integrity policies. It identifies 4 foundations of scientific integrity in government: (1) Ensure a culture of scientific integrity by shielding scientific data and analyses from inappropriate political interference and preventing political officials from suppressing or altering scientific or technological findings; (2) Strengthen the actual and perceived credibility of government research through: Hiring decisions based on candidates' knowledge, credentials, experience, and integrity; ensuring data and research used to support policy decisions undergoes independent peer review; setting clear standards for governing conflicts-of-interest; and adopting whistleblower protections; (3) Facilitate the free flow of scientific and technological information, consistent with privacy and classification standards; and (4) Establish principles for conveying scientific and technological information to the public, including underlying assumptions and uncertainties. The 2010 OSTP Memorandum also establishes guidance for public communication about scientific and technological matters that maximizes openness and transparency with the media; use of Federal Advisory Committees tasked with providing scientific advice; and professional development of government scientists and engineers. It directs Agencies to report back to OSTP on actions taken to develop and implement policies specified in the memorandum.

By December 2016, 24 Federal departments and agencies had developed and published policies to support scientific integrity. These agencies and departments included all major U.S. science agencies (i.e., those that conduct or fund scientific research), as well as departments and agencies that issue regulations or use scientific findings in agency decision-making. Most of the scientific integrity policies addressed all four components of the 2010 OSTP Memorandum, and some addressed additional topics not specified in the memorandum, such as the importance of scientific integrity to the department's or agency's mission. The report also noted considerable variation across departments and agencies in scientific integrity policies and practices, reflecting differences in their missions, fields of science and technology supported, and organizational structures.

The 2021 Presidential Memorandum calls for the establishment of an interagency task force (established as the SI-FTAC) of the National Science and Technology Council (NSTC) to conduct a thorough review of the effectiveness of agency integrity policies developed since the issuance of the Presidential Memorandum of March 9, 2009 on scientific integrity. Specifically, the 2021 Presidential Memorandum charges the task force to: (1) Consider whether existing Federal scientific integrity policies prevent improper political interference in the conduct of scientific research and the collection of scientific or technological data; prevent the suppression or distortion of scientific or technological findings, data, information, conclusions, or technical results; support scientists and researchers of all genders, races, ethnicities, and backgrounds; and advance the equitable delivery of the Federal Government's programs; (2) analyze instances in which existing scientific integrity policies have not been followed or enforced; and (3) identify effective practices for implementing scientific integrity policies in specific areas of particular interest, including improving the communication of scientific information, addressing emerging technologies and evolving scientific practices, supporting professional development of Federal scientists, and effective reporting practices that promote transparency in the implementation of agency scientific integrity policies and in the handling of any allegations of misconduct.

This request for information aims to support the task force's work by providing input from stakeholders on issues specified in the 2021 Presidential Memorandum and related topics. The information collected in response to this RFI will inform the task force (SI-FTAC), OSTP, and OMB as they work with Federal agencies and other stakeholders to review the effectiveness of agency scientific integrity policies and practices.

Information Requested: Respondents may provide information for one or as many topics below as they choose. Input is welcome from stakeholders, including members of the public, representing all backgrounds and perspectives. Through this RFI, the SI-FTAC seeks information on the current state of scientific integrity processes and practices and the effect of these on trust in Federal science, including on the following topics:

1. The effectiveness of Federal scientific integrity policies in promoting trust in Federal science:

Information about the strengths and weaknesses of Federal scientific integrity policies, including where additional efforts are needed to meet the broad ambition to establish trust in Federal science by protecting against: Political or other improper interference in the conduct of scientific research, the collection of scientific or technological data, and the utilization of science in decision-making; suppression or distortion of scientific or technological findings, data, information, conclusions, or technical results; disproportionate harm to Federal scientists and researchers from groups that are historically underrepresented in science, technology, and related fields; or equitable delivery of the Federal Government's programs. Of interest is information about how perceived shortfalls in scientific integrity affect public trust in science and about mechanisms Federal agencies could use to detect or deter potential violations of scientific integrity policies before they occur. [Please note: We do not seek reports on alleged offenses that are in violation of Federal scientific integrity policies; we ask that you not provide names of individuals who have been or may be accused of engaging in or subjected to such practices, personally identifiable or sensitive information, or specific allegations that should be handled through other appropriate channels, such as law enforcement, Scientific Integrity Officers, or an Office of Inspector General].

2. Effective policies and practices Federal agencies could adopt to improve the communication of scientific and technological information:

Consider practices related but not limited to: Engagement of Federal scientists and contractors working on scientific matters with news media and on social media; protection of scientific independence during clearance and review processes; avoidance of political or other improper interference in research or data collection; differentiation in official government communications of references to scientific publications and peer-reviewed research versus science-based or science-informed policy statements and determinations.

3. Effective policies and practices Federal agencies could adopt to address scientific issues and the scientific workforce:

Consider practices related but not limited to: Handling scientific disagreements about research methods and conclusions; addressing gaps in current scientific integrity policies related to emerging technologies, such as artificial intelligence and machine-learning, and evolving scientific practices, such as citizen science and community-engaged research; supporting the professional development of Federal scientists; supporting scientists and researchers of all genders, races, ethnicities, and backgrounds and advance the equitable delivery of the Federal Government's programs; and Ensuring the independence, autonomy, and effectiveness of scientific integrity officials and chief science officers.

4. Effective practices Federal agencies could adopt to improve training of scientific staff about scientific integrity and the transparency into their scientific integrity practices:

Consider practices related but not limited to: Educating and informing employees, contractors, and grantees in scientific and technical positions, as well as those who manage, communicate, or make decisions based on science and technology, of their rights and responsibilities related to agency scientific integrity policies; reporting practices that promote transparency in the implementation of agency scientific integrity policies and in the handling of any allegations of misconduct; communicating to the public about alleged lapses in scientific integrity, substantiated violations of scientific integrity policies, and remedial actions taken; and minimizing conflicts of interest in Federal science and research misconduct.

5. Other important aspects of scientific integrity and effective approaches to improving trust in Federal science:

Consider other elements that should be included and addressed in the scientific integrity policies of Federal agencies, beyond those specified in the 2009 Presidential Memorandum, 2010 OSTP Memorandum, and 2021 Presidential Memorandum. Consider also effective practices, in addition to those specified above, that Federal agencies could put in place to improve scientific integrity and public trust in Federal science, including for proactively promoting rigorous, objective scientific research and streamlining implementation within and across Federal departments and agencies.

Dated: June 22, 2021.
Stacy Murphy,
Operations Manager.

[FR Doc. 2021-13640 Filed 6-25-21; 8:45 am]

BILLING CODE 3270-F1-P